FEDERAL COMMUNICATIONS COMMISSION

[CG Docket No. 03-84; DA 03-867]

The Bundling of Local Telephone Service With Long Distance Service

AGENCY: Federal Communications Commission.

ACTION: Notice.

SUMMARY: In this document, the Commission seeks comments on a petition for declaratory ruling concerning the bundling of local telephone service with long distance service.

DATES: Comments are due on June 5, 2003, and reply comments are due June 20, 2003.

ADDRESSES: Federal Communications Commission, 445 12th Street, SW., Room TW-A325, Washington, DC. 20554. See SUPPLEMENTARY INFORMATION for further filing instructions.

FOR FURTHER INFORMATION CONTACT: Calvin Osborne, Policy Division, Consumer & Governmental Affairs Bureau, (202) 418-2512.

SUPPLEMENTARY INFORMATION: A public notice was released on March 27, 2003, regarding a petitioner who filed a Petition for Declaratory Ruling with the Federal Communications Commission on August 9, 2002. The petitioner's petition was filed pursuant to an Order by the United States District Court for the Middle District of Florida which referred several questions to the Commission under the doctrine of primary jurisdiction. The petitioner requests that the Commission issue a ruling on the following issues: (1) Whether the state claims set forth by petitioner in the complaint are preempted by the Communications Act giving exclusive jurisdiction to the Commission; (2) whether local telephone service providers may provide local service only to their customers, or must, by virtue of their filed tariff rates or otherwise, bundle local service with long distance service, even where a customer has no need for long distance service; and (3) if long distance service is not required to be bundled with local service in all events, if the practice of bundling these services is a violation of the Communications Act.

The Commission seeks comment on the three issues outlined in the filing. Pursuant to §§ 1.415 and 1.419 of the Commission's rules, 47 CFR 1.415, 1.419, interested parties may file comments on or before June 5, 2003, and reply comments on or before June 20, 2003. Comments may be filed using the Commission's Electronic Comment Filing System (ECFS) or by filing paper copies.

Comments filed through the ECFS can be sent as an electronic file via the Internet to http://www.fcc.gov/cgb/ecfs/. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form”. A sample form and directions will be sent in reply. Parties who choose to file by paper must file an original and four copies of each filing. If more than one docket or rulemaking number appears in the caption of this proceeding, commenters must submit two additional copies for each additional docket or rulemaking number.

Filings can be sent by hand or messenger delivery, by commercial overnight courier, or by first-class or overnight U.S. Postal Service mail (although we continue to experience delays in receiving U.S. Postal Service mail).

The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

Federal Communications Commission.
Margaret M. Egler,
Deputy Chief, Consumer & Governmental Affairs Bureau.

[FR Doc. 03-9686 Filed 4-18-03; 8:45 am]

BILLING CODE 6712-01-P